DEPARTMENT OF THE INTERIOR

Fish and Wildlife Service

[FWS-R8-ES-2015-N009; FXES11120800000-167-FF08EVEN00]

Receipt of Application for Renewal of Incidental Take Permit; Bonny Doon Quarries Settlement Ponds Low-Effect Habitat Conservation Plan

AGENCY: Fish and Wildlife Service, Interior.

ACTION: Notice of receipt of permit renewal application; request for comments.

SUMMARY: We, the U.S. Fish and Wildlife Service (Service), have received an application from CEMEX (applicant), for a renewal of incidental take permit TE844722-0 under the Endangered Species Act of 1973, as amended (Act). The applicant has requested a renewal that will extend permit expiration by 5 years from the date the permit is reissued. The applicant has agreed to follow all of the existing habitat conservation plan (HCP) conditions. If renewed, no additional take will be authorized. The permit would authorize take of the federally threatened California red-legged frog, incidental to otherwise lawful activities associated with the Bonny Doon Quarries Settlement Ponds HCP.

DATES: Written comments should be received on or before March 21, 2016.

ADDRESSES: You may obtain a copy of the permit renewal application and the HCP by writing to the Ventura Fish and Wildlife Ecological Services Office, Attn: Permit number TE844722-0, U.S. Fish and Wildlife Service, 2493 Portola Road, Suite B, Ventura, CA 93003. In addition, we will make the permit renewal application and HCP available for public inspection by appointment during normal business hours at the above address. Please address written comments to Stephen P. Henry, Field Supervisor, at the address above. Comments may also be sent by facsimile to (805) 644-3958.

FOR FURTHER INFORMATION CONTACT: Jacob Martin, Fish and Wildlife Biologist, at the above address or by calling (831) 768-6953.

SUPPLEMENTARY INFORMATION:

Background

The California red-legged frog (Rana draytonii) was listed by the U.S. Fish and Wildlife Service as threatened on May 23, 1996. Section 9 of the Act (16 U.S.C. 1531 et seq.) and its implementing regulations prohibit the “take” of fish or wildlife species listed as endangered or threatened. “Take” is defined under the Act to include the following activities: “[T]o harass, harm, pursue, hunt, shoot, wound, kill, trap, capture, or collect, or to attempt to engage in any such conduct” (16 U.S.C. 1532); however, under section 10(a)(1)(B) of the Act, we may issue permits to authorize incidental take of listed species. “Incidental take” is defined by the Act as take that is incidental to, and not the purpose of, carrying out of an otherwise lawful activity. Regulations governing incidental take permits for threatened and endangered species are, respectively, in the Code of Federal Regulations at 50 CFR 17.32 and 17.22. Issuance of an incidental take permit also must not jeopardize the existence of federally listed fish, wildlife, or plant species. All species included in the incidental take permit would receive assurances under our “No Surprises” regulations (50 CFR 17.22(b)(5) and 17.32(b)(5)).

CEMEX has applied for renewal of a permit for the incidental take of the threatened California red-legged frog. The potential taking would occur by activities associated with operations and maintenance of settlement ponds 1 through 7, habitat management and enhancement activities at the existing mitigation ponds, and possible reclamation activities of settlement ponds 2X and 5 at CEMEX's Bonny Doon Quarries. The Bonny Doon Quarries are located just north of the city of Davenport (Santa Cruz County), California. An incidental take permit was first issued for the project on August 5, 1999. Mining activities have ceased at the Bonny Doon Quarries; however, management and maintenance of settlement ponds continues. Conditions at the site remain unchanged from the time of original permit issuance.

Our Preliminary Determination

The Service has made a preliminary determination that renewal of the permit is not a major Federal action that will significantly affect the quality of the human environment within the meaning of section 102(2)(C) of the National Environmental Policy Act (NEPA), nor will it individually or cumulatively have more than a negligible effect on the species covered in the HCP. Therefore, the permit renewal qualifies for a categorical exclusion under NEPA as provided by the Department of Interior Manual (516 DM 2, Appendix 1 and 516 DM 8.5).

Public Comments

If you wish to comment on the permit applications, plans, and associated documents, you may submit comments by any one of the methods in ADDRESSES.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10 of the Act (16 U.S.C. 1531 et seq.) and NEPA regulations (40 CFR 1506.6).

Dated: February 10, 2016.
Stephen P. Henry,
Field Supervisor, Ventura Fish and Wildlife Office, Ventura, California.

[FR Doc. 2016-03303 Filed 2-18-16; 8:45 am]

BILLING CODE 4333-15-P